ENVIRONMENTAL PROTECTION AGENCY

[FRL-8918-6]

Clean Air Act Operating Permit Program; Petition for Objection to Federal Operating Permit for CITGO Refining and Chemicals Company L.P.

AGENCY: Environmental Protection Agency (EPA).

ACTION: Notice of final action.

SUMMARY: This document announces that the EPA Administrator has responded to a citizen petition asking EPA to object to the CITGO Refining and Chemicals Company L.P. (CITGO) operating permit issued by the Texas Commission on Environmental Quality. Specifically, the Administrator has partially granted and partially denied the petition submitted by Environmental Integrity Project, the Refinery Reform Campaign, Citizens for Environmental Justice, and Suzie Canales (Petitioners), to object to the title V operating permit for CITGO to operate the West Plant at its refinery in Corpus Christi, Texas.

Pursuant to section 505(b)(2) of the Clean Air Act (Act), the petitioner may seek judicial review of those portions of the petition which EPA denied in the United States Court of Appeals for the appropriate circuit. Any petition for review shall be filed within 60 days from the date this notice appears in the Federal Register, pursuant to section 307 of the Act.

ADDRESSES: You may review copies of the final order, the petition, and other supporting information at EPA Region 6, 1445 Ross Avenue, Dallas, Texas 75202-2733. EPA requests that if at all possible, you contact the individual listed in the FOR FURTHER INFORMATION CONTACT section to view copies of the final order, petition, and other supporting information. If you wish to examine these documents, you should make an appointment at least 24 hours before visiting day. The final order is also available electronically at: http://www.epa.gov/region07/programs/artd/air/title5/petitiondb/petitions/citgo_corpuschristi_west_response2007.pdf.

FOR FURTHER INFORMATION CONTACT: Bonnie Braganza, Air Permits Section, Multimedia Planning and Permitting Division, EPA Region 6, 1445 Ross Avenue, Dallas, Texas 75202-2733, telephone (214) 665-7340, or e-mail at braganza.bonnie@epa.gov.

SUPPLEMENTARY INFORMATION: The Act affords EPA a 45-day period to review, and, as appropriate, object to operating permits proposed by State permitting authorities under Title V of the Act. Section 505(b)(2) of the Act authorizes any person to petition the EPA Administrator within 60 days after the expiration of this review period to object to title V operating permits if EPA has not done so. Petitions must be based only on objections to the permit that were raised with reasonable specificity during the public comment period provided by the State, unless the petitioner demonstrates that it was impracticable to raise these issues during the comment period or the grounds for the issues arose after this period.

On March 30, 2007, EPA received a petition from the Petitioners requesting that EPA object to the issuance of the title V operating permit to CITGO for the operation of the West Plant at its refinery in Corpus Christi, Texas. First, the petitioners claim that the permit's monitoring requirements are not adequate to ensure compliance with all emission limitations and other substantive Act requirements.

Second, the Petitioners claim that the permit's use of incorporation by reference for emission limitations and standards violates title V of the Act and its implementing regulations at 40 CFR part 70 and renders the permit practically unenforceable. Further, the Petitioners claim that (1) the permit should include the emission rate tables located in underlying permits; (2) the Applicable Requirements Summary of the permit must reference a State administrative enforcement order, and the permit should explicitly state the provisions of the order as terms of the permit; and (3) the permit must explicitly incorporate a federal consent decree, and the permit should specifically state the emission limitations and monitoring requirements of the consent decree as terms of the permit.

On May 28, 2009, the Administrator issued an order partially granting and partially denying the petition. The order explains the reasons behind EPA's conclusion to partially grant and partially deny the petition for objection.

Dated: June 5, 2009.
Lawrence E. Starfield,
Acting Regional Administrator, Region 6.

[FR Doc. E9-14016 Filed 6-12-09; 8:45 am]

BILLING CODE 6560-50-P